NUCLEAR REGULATORY COMMISSION

10 CFR Part 35

[NRC-2008-0071 and NRC-2008-0175]

RIN 3150-AI26, 3150-AI63

Medical Use Regulations

AGENCY: Nuclear Regulatory Commission.

ACTION: Availability of preliminary draft rule language and notice of public workshops; correction.

SUMMARY: This document corrects another document that was published in the Federal Register on May 20, 2011 (76 FR 29171). That document announces plans to hold public workshops to solicit comments on certain issues under consideration to amend the medical use regulations, provides the date of the first of the two public workshops, and notices the availability of preliminary draft rule language concerning the U.S. Nuclear Regulatory Commission's (NRC) proposed amendments to the medical use regulations. This document is necessary to correct a Regulatory Identifier Number (RIN) that appears in the heading, and to add additional information regarding the availability of the preliminary draft rule language.

FOR FURTHER INFORMATION CONTACT: Cindy Bladey, Chief, Rules, Announcements, and Directives Branch, Office of Administration, Nuclear Regulatory Commission, Washington, DC 20555-0001, e-mail: Cindy.Bladey@nrc.gov, telephone: 301-492-3667.

SUPPLEMENTARY INFORMATION: At the top of the first column of Page 29171 of Federal Register document 2011-12048, published on May 20, 2011 (76 FR 29171), in the heading of the document, “RIN 3150-AI28” is corrected to read “RIN 3150-AI26”.

Also, in the “Background Information” section, at the top of the first column of Page 29176 of the same document, before the last paragraph of the document, add the following three paragraphs:

The NRC is making a preliminary version of this draft rule language available to inform stakeholders of the current status of this proposed rulemaking. The NRC is inviting stakeholders to comment on the preliminary draft rule language. The preliminary draft rule language may be subject to significant revisions during the rulemaking process prior to publication for formal comment as a proposed rule. Public input at this stage will help inform the development of the proposed rule.

The NRC will review and consider any comments received; however, the NRC will not formally respond to any comments received at this pre-rulemaking stage. As appropriate, the Statement of Considerations for the proposed rule may briefly discuss any substantive changes made to the proposed rule language as a result of comments received on this preliminary version. Stakeholders will also have an additional opportunity to comment on the rule language when it is published as a proposed rule in accordance with the provisions of the Administrative Procedures Act. The NRC will respond to such comments in the Statement of Considerations for the final rule.

The NRC may post updates to the preliminary proposed rule language on the Federal rulemaking Web site under Docket ID NRC-2008-0175. Regulations.gov allows members of the public to set-up e-mail alerts so that they may be notified when documents are added to a docket. Users are notified via e-mail at an e-mail address provided at the time of registration for the notification. Directions for signing up for the e-mail alerts can be found at http://www.regulations.gov. To do so, navigate to a docket folder you are interested in and then click the “Sign up for E-mail Alerts” link.

Dated at Rockville, Maryland, this 3rd day of June, 2011.
For the Nuclear Regulatory Commission.
Leslie Terry,
Acting Chief, Rules, Announcements, and Directives Branch, Division of Administrative Services, Office of Administration.

[FR Doc. 2011-14060 Filed 6-7-11; 8:45 am]

BILLING CODE 7590-01-P